ENVIRONMENTAL PROTECTION AGENCY

40 CFR Part 52

[EPA-R03-OAR-2005-MD-0013; FRL-8026-6]

Approval and Promulgation of Air Quality Implementation Plans; Maryland; Amendments to the Control of Incinerators

AGENCY: Environmental Protection Agency (EPA).

ACTION: Proposed rule.

SUMMARY: EPA is proposing to approve a State Implementation Plan (SIP) revision submitted by Maryland Department of the Environment (MDE). This revision pertains to amendments to the regulations for the control of incinerators. This action is being taken under the Clean Air Act (CAA or the Act).

DATES: Written comments must be received on or before March 2, 2006.

ADDRESSES: Submit your comments, identified by Docket ID Number EPA-R03-OAR-2005-MD-0013 by one of the following methods:

A. www.regulations.gov. Follow the on-line instructions for submitting comments.

B. E-mail: morris.makeba@epa.gov.

C. Mail: EPA-R03-OAR-2005-MD-0013, Makeba Morris, Chief, Air Quality and Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2005-MD-0013. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov website is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: LaKeshia N. Robertson (215) 814-2113, or by e-mail at robertson.lakeshia@epa.gov.

SUPPLEMENTARY INFORMATION: On October 31, 2005, Maryland submitted a revision to its SIP. The revision (#05-06) pertains to amendments to regulations .01 and .05 under COMAR 26.11.08 Control of Incinerators.

I. Background

COMAR 26.11.08 sets forth emission standards and requirements for incinerators that burn “infectious” or special medical waste generated by health care and research facilities. These incinerators, which are used by health care and research facilities, must meet particulate matter and toxic air pollutants emission limits and other requirements. Two years ago, following federal guidelines MDE adopted more stringent federal requirements for certain hospital/ medical waste incinerators. Those requirements applied to various sizes of hospital incinerators but did not apply to units burning pathological waste or crematories.

Special medical waste incinerators that were not subject to the more restrictive federal requirements are subject to the MDE's particulate matter and toxic air pollutant requirements. The special medical waste incinerators subject to Maryland's regulations are required to meet a particulate matter standard of 0.1 grains per standard cubic foot dry (SCFD). Other incinerators and hazardous waste incinerators are subject to a more restrictive 0.03 grain loading requirement.

Although the MDE's intent was to treat crematories as special medical waste incinerators and subject them to the 0.1 grain loading requirement, the current regulations are not clear as to which particulate matter requirement applies to crematories. The October 31, 2005 revision clarifies this discrepancy.

II. Summary of SIP Revision

The revision defines the term “crematory” and clarifies the particulate matter requirements to indicate that crematories are subject to the 0.1 grain loading requirement. Special medical waste incinerators that are not subject to the more restrictive federal requirements are subject to the 0.1 grain loading requirement and crematories are treated as special medical waste incinerators. The amendments address COMAR 26.11.08, sections .01 and .05. The referenced changes are listed below.

Revision 1. Section .01B(9-1): The term “crematory” is defined as a furnace where a human or animal corpse is burned with: (a) The container or bag in which the human or animal corpse is placed or transported; and (b) The animal bedding, if applicable.

Revision 2. Particulate Matter Section .05A(3) Requirements for Areas I, II, V, and VI: Crematories have been incorporated into the rule with stipulations on the particulate matter emissions into the atmosphere. The rule states that a person may not cause or permit the discharge of particulate matter into the outdoor atmosphere that exceed 0.10 grains per standard cubic foot dry 0.10 gr/SCFD (229 mg/dscm).

Section .05B(2)(a) Requirements for Areas III and IV: Crematories have been incorporated into the rule with stipulations on the particulate matter emissions into the atmosphere. The rule clearly states that a person may not cause or permit the discharge of particulate matter into the outdoor atmosphere to exceed 0.10 grains per standard cubic foot dry 0.10gr/SCFD (229mg/dscm).

III. Proposed Action

EPA is approving Maryland's SIP revisions submitted on October 31, 2005 to incorporate crematory provisions into rule COMAR 26.11.08, which amends sections .01 and .05. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 Fed. Reg. 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule, to amend Maryland's incinerator regulation, does not impose an information collection burden under the provisions of the Paperwork Reduction Act of 1995 (44 U.S.C. 3501 et seq.).

List of Subjects in 40 CFR Part 52

Environmental protection, Air pollution control, Particulate matter.

Authority: 42 U.S.C. 7401 et seq.

Dated: January 24, 2006.
Donald S. Welsh,
Regional Administrator, Region III.

[FR Doc. E6-1205 Filed 1-30-06; 8:45 am]

BILLING CODE 6560-50-P